DEPARTMENT OF COMMERCE

International Trade Administration

[A-570-840]

Manganese Metal From the People's Republic of China; Rescission of Antidumping Duty Administrative Review

AGENCY: Import Administration, International Trade Administration, Department of Commerce.

ACTION: Notice of rescission of the antidumping duty administrative review.

SUMMARY: In response to February 27, 2001, and February 28, 2001, requests by certain producers/exporters of manganese metal from the People's Republic of China, the Department of Commerce initiated an administrative review of the antidumping duty order on manganese metal from the People's Republic of China, covering the period February 1, 2000, through February 6, 2001. See Initiation of Antidumping and Countervailing Administrative Reviews and Requests for Revocations In Part, 66 FR 16037 (March 22, 2001). Based on timely withdrawals of the requests for review from these companies, we are rescinding this review in its entirety in accordance with § 351.213(d)(1) of our regulations.

EFFECTIVE DATE: May 3, 2001.

FOR FURTHER INFORMATION CONTACT: Greg Campbell or Suresh Maniam, AD/CVD Enforcement, Group I, Office 1, Import Administration, U.S. Department of Commerce, 14th Street and Constitution Avenue, NW., Washington, DC 20230; telephone: (202) 482-2239 and (202) 482-0176, respectively.

SUPPLEMENTARY INFORMATION:

Applicable Statute

Unless otherwise indicated, all citations to the statute are references to the provisions effective January 1, 1995, the effective date of the amendments made to the Tariff Act of 1930 (“the Act”) by the Uruguay Round Agreements Act. In addition, unless otherwise indicated, all citations to the Department of Commerce's (“Department's”) regulations refer to 19 CFR part 351 (2000).

Background

On February 27, 2001, Minmetals Precious & Rare Minerals Import and Export (“Minmetals”) and CEIEC-Hunan Company (Electronics) (“CEIEC-Hunan”), producers/exporters of manganese metal from the People's Republic of China, requested an administrative review of the subject merchandise for the period February 1, 2000 through January 31, 2001. On February 28, 2001, London & Scandinavian Metallurgical Co., Ltd. and Shieldalloy Metallurgical Corporation (together referred to as “LSM/SMC”), likewise requested an administrative review of the subject merchandise for the period February 1, 2000 through January 31, 2001. In accordance with 19 CFR 351.221(c)(1)(i), the Department published the initiation of an administrative review of the antidumping duty order. See Initiation of Antidumping and Countervailing Administrative Reviews and Requests for Revocations In Part, 66 FR 16037 (March 22, 2001) (“Initiation Notice”).¹ On January April 17, 2001, LSM/SMC withdrew their request for review. On April 24, 2001, Minmetals and CEIEC-Hunan withdrew their request for review.

¹ We note that the Initiation Notice specified a period of review of February 1, 2000, through February 6, 2001. This period of review was extended beyond the dates initially requested by the respondents to include the 6 days remaining prior to the revocation of this dumping order, which became effective February 6, 2001. See January 2001 Sunset Reviews: Final Result and Revocation, 63 FR 17524 (April 2, 2001).

The Department's regulations, at 19 CFR 351.213(d)(1), provide that the Department will rescind an administrative review if the party that requested the review withdraws the request within 90 days of the date of publication of the notice of initiation of the requested review. Since all parties requesting review withdrew their requests for an administrative review within the 90-day deadline, the Department is rescinding this administrative review.

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This determination is issued and published in accordance with sections 751(a)(1) and 777(i)(1) of the Tariff Act of 1930, as amended.

Dated: April 27, 2001.
Richard W. Moreland,
Deputy Assistant Secretary for Import Administration.

[FR Doc. 01-11307 Filed 5-3-01; 8:45 am]

BILLING CODE 3510-DS-P